DEPARTMENT OF HEALTH AND HUMAN SERVICES

Administration for Children and Families

Proposed Information Collection Activity; Comment Request

Proposed Project:

Title: Low Income Home Energy Assistance Program (LIHEAP) Household Report.

OMB No.: 0970-0060

Description: This statistical report is an annual activity required by statute (42 U.S.C. 8629) and Federal regulations (45 CFR 96.92) for the Low Income Home Energy Assistance Program (LIHEAP). Submission of the completed report is one requirement for LIHEAP grantees applying for Federal LIHEAP block grant funds. States, the District of Columbia, and the Commonwealth of Puerto Rico are required to report statistics for the previous Federal fiscal year on the number and income levels of LIHEAP applicants and assisted households, as well as the number of LIHEAP-assisted households with at least one member who is elderly, disabled, or a young child.

The statistical report requires States, the District of Columbia, and the Commonwealth of Puerto Rico to report on assisted households having at least one elderly person who is homebound; an unduplicated count of assisted households having at least one member who is elderly, disabled, or a young child; and an unduplicated count of assisted households receiving one or more types of LIHEAP assistance.

Insular areas receiving less than $200,000 annually in LIHEAP funds and Indian Tribal Grantees are required to submit data only on the number of households receiving heating, cooling, energy crisis, or weatherization benefits. The information is being collected for the Department's annual LIHEAP report to Congress. The data also provides information about the need for LIHEAP funds. Finally, the data are used in the calculation of LIHEAP performance measures under the Government Performance and Results Act of 1993. The additional data elements will improve the accuracy of measuring LIHEAP targeting performance and LIHEAP cost efficiency.

Respondents: State Governments, Tribal Governments, Insular Areas, the District of Columbia, and the Commonwealth of Puerto Rico.

Annual Burden Estimates
Instrument | Number of respondents | Number of responses per respondent | Average burden hours per response | Total burden hours
Assisted Household Report-Long Form | 52 | 1 | 35 | 1,820
Assisted Household Report-Short Form | 140 | 1 | 1 | 140
Applicant Household Report | 52 | 1 | 13 | 676

Estimated Total Annual Burden Hours: 2,636.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, attn: ACF Reports Clearance Officer. E-mail address: rsargis@acf.hhs.gov. All requests should be identified by the title of the information collection.

The Department specifically requests comments on (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: August 22, 2006.
Robert Sargis,
Reports Clearance Officer.

[FR Doc. 06-7190 Filed 8-25-06; 8:45 am]

BILLING CODE 4184-01-M